DEPARTMENT OF COMMERCE

National Oceanic and Atmospheric Administration

RIN 0648-XA625

Endangered Species; File No. 16194

AGENCY: National Marine Fisheries Service (NMFS), National Oceanic and Atmospheric Administration (NOAA), Commerce.

ACTION: Notice; receipt of application.

SUMMARY: Notice is hereby given that the National Marine Fisheries Service, Southeast Fisheries Science Center (SEFSC) [Bonnie Ponwith: Responsible Party], 75 Virginia Beach Drive, Miami, FL 33149, has applied in due form for a permit to take green (Chelonia mydas), hawksbill (Eretmochelys imbricata), loggerhead (Caretta caretta), Kemp's ridley (Lepidochelys kempii), olive ridley (Lepidochelys olivacea), leatherback (Dermochelys coriacea), and unidentified hardshell sea turtles for purposes of scientific research.

DATES: Written, telefaxed, or e-mail comments must be received on or before September 8, 2011.

ADDRESSES: The application and related documents are available for review by selecting Records Open for Public Comment from the Features box on the Applications and Permits for Protected Species (APPS) home page, https://apps.nmfs.noaa.gov, and then selecting File No. 16194 from the list of available applications.

These documents are also available upon written request or by appointment in the following offices:

Permits, Conservation and Education Division, Office of Protected Resources, NMFS, 1315 East-West Highway, Room 13705, Silver Spring, MD 20910; phone (301) 427-8401; fax (301) 713-0376; and

Southeast Region, NMFS, 263 13th Avenue South, Saint Petersburg, FL 33701; phone (727) 824-5312; fax (727) 824-5309.

Written comments on this application should be submitted to the Chief, Permits, Conservation and Education Division.

• by e-mail to NMFS.Pr1Comments@noaa.gov (include the File No. in the subject line of the e-mail),

• by facsimile to (301) 713-0376, or

• at the address listed above.

Those individuals requesting a public hearing should submit a written request to the Chief, Permits, Conservation and Education Division at the address listed above. The request should set forth the specific reasons why a hearing on this application would be appropriate.

FOR FURTHER INFORMATION CONTACT: Colette Cairns or Amy Hapeman, (301) 427-8401.

SUPPLEMENTARY INFORMATION: The subject permit is requested under the authority of the Endangered Species Act of 1973, as amended (ESA; 16 U.S.C. 1531 et seq.) and the regulations governing the taking, importing, and exporting of endangered and threatened species (50 CFR 222-226).

The proposed research would allow the applicant to monitor the take of green, loggerhead, hawksbill, leatherback, Kemp's ridley, olive ridley, and unidentified hardshell sea turtles during SEFSC resource assessment cruises in the Gulf of Mexico, the Atlantic Ocean and the Caribbean Sea. Green, loggerhead, Kemp's ridley, hawksbill, leatherback, olive ridley and unidentified hardshell sea turtles captured under separate authority would be handled, photographed, measured, weighed, flipper and passive integrated transponder tagged, temporarily marked, skin biopsied, and released. These efforts would aid in the development and refinement of management efforts to recover these species. The sampling would be conducted year-round for five years from the date of issuance of the permit.

Dated: August 3, 2011.
P. Michael Payne,
Chief, Permits, Conservation and Education Division, Office of Protected Resources, National Marine Fisheries Service.

[FR Doc. 2011-20190 Filed 8-8-11; 8:45 am]

BILLING CODE 3510-22-P